FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 19, 2019.

A. Federal Reserve Bank of Chicago (Colette A. Fried, Assistant Vice President) 230 South LaSalle Street, Chicago, Illinois 60690-1414:

1. Noel A. Radcliffe, Hillsboro, Wisconsin; Richard A. Radcliffe, Sparta, Wisconsin; Robin W. Radcliffe, Brooktondale, New York; and Rolfe M. Radcliffe, Berkshire, New York, each individually and acting in concert; to acquire voting shares of BRAD, Inc., and thereby indirectly acquire shares of Black River Country Bank, both of Black River Falls, Wisconsin.

B. Federal Reserve Bank of Dallas (Robert L. Triplett III, Senior Vice President) 2200 North Pearl Street, Dallas, Texas 75201-2272:

1. City Bank and Kendra B. Lane, both of Lubbock, Texas, as Trustees of the South Plains Financial, Inc., Employee Stock Ownership Plan, Lubbock, Texas (`ESOP') and Robert C. Dean, and Kendra B. Lane, all of Lubbock, Texas, as members of the ESOP Investment Committee; to acquire voting shares of the ESOP and thereby indirectly acquire South Plains Financial, Inc., and City Bank, both of Lubbock, Texas.

Board of Governors of the Federal Reserve System, February 27, 2019.
Yao-Chin Chao,
Assistant Secretary of the Board.

[FR Doc. 2019-03845 Filed 3-1-19; 8:45 am]

BILLING CODE P